DEPARTMENT OF TRANSPORTATION

Coast Guard

33 CFR Part 117

[CGD08-01-001]

Drawbridge Operating Regulation; Arroyo Colorado, TX

AGENCY: Coast Guard, DOT.

ACTION: Notice of temporary deviation from regulations.

SUMMARY: The Commander, Eighth Coast Guard District has issued a temporary deviation from the regulation in 33 CFR 117.951 governing the operation of the FM 106, vertical lift span bridge across Arroyo Colorado, mile 22.2 at Rio Hondo, Texas. This deviation allows the Texas Department of Transportation to close the bridge to navigation from 7 a.m. on February 20, 2001 through 7 p.m. on February 25, 2001 for maintenance.

DATES: This deviation is effective from 7 a.m. on Tuesday, February 20, 2001 to 7 p.m. on Sunday, February 25, 2001.

ADDRESSES: Unless otherwise indicated, documents referred to in this notice are available for inspection or copying at the office of the Eighth Coast Guard District, Bridge Administration Branch, Commander (obc), 501 Magazine Street, New Orleans, Louisiana, 70130-3396. The Bridge Administration Branch maintains the public docket for this temporary deviation.

FOR FURTHER INFORMATION CONTACT: Phil Johnson, Bridge Administration Branch, telephone (504) 589-2965.

SUPPLEMENTARY INFORMATION: The FM 106 vertical lift span bridge across Arroyo Colorado, mile 22.2, at Rio Hondo, Cameron County, Texas, has a vertical clearance of 27 feet above high water in the closed-to-navigation position and 73 feet above high water in the open-to-navigation position. Navigation on the waterway consists primarily of tugs with tows transporting concrete, petroleum products and fertilizer. Presently, the draw of the bridge opens on signal if at least 12 hours notice is given. The Texas Department of Transportation requested a temporary deviation from the normal operation of the drawbridge in order to accommodate the maintenance work, which involves replacing the drive motors and upgrading the operating system computer. This maintenance is necessary for the continued operation of the bridge.

This deviation allows the lift span of the FM 106 drawbridge across Arroyo Colorado, mile 22.2 at Rio Hondo, Texas to remain closed to navigation from 7 a.m. on February 20, 2001 until 7 p.m. on February 25, 2001.

Dated: February 7, 2001.
Paul J. Pluta,
Rear Admiral, U.S. Coast Guard, Commander, Eighth Coast Guard District.

[FR Doc. 01-4138 Filed 2-16-01; 8:45 am]

BILLING CODE 4910-15-P